DEPARTMENT OF AGRICULTURE

Forest Service

Wasatch-Cache National Forest, UT; West Bear Landscape Management Project

AGENCY: Forest Service, USDA.

ACTION: Notice of intent to prepare a supplemental environmental impact statement to the West Bear Vegetation Management Project.

SUMMARY: The USDA Forest Service announces its intent to prepare a Supplemental Environmental Impact Statement (SEIS) to the West Bear Vegetation Management Project Final Environment Impact Statement (FEIS). The West Bear Vegetation Management Project FEIS evaluated three alternatives using timber harvest and prescribed fire as management tools to treat vegetation. The treatment is intended to move the West Bear landscape towards properly functioning condition (PFC).

DATES: Scoping will not be conducted in accordance with 40 CFR 1502.9(c)(4). The draft supplemental environmental impact statement is expected in February 2008 and the final supplemental environmental impact statement and a new Record of Decision are expected in April 2008.

ADDRESSES: Send written comments to Steve Ryberg, Evanston District Ranger, Wasatch-Cache National Forest, P.O. Box 1880, Evanston, Wyoming 82931.

FOR FURTHER INFORMATION CONTACT: Steve Ryberg, Evanston District Ranger, Evanston Ranger District, Evanston, Wyoming, (307) 789-3194.

SUPPLEMENTARY INFORMATION:

Proposed Action

On March 5, 2007, Forest Supervisor Faye Krueger made a decision to implement the West Bear Vegetation Treatment Project to treat approximately 1,686 acres. The project consists of harvesting 1,489 acres, prescribed burning 523 acres of aspen and mixed aspen/conifer, construction of 7.8 miles of temporary roads, 0.9 miles of intermittent service roads and minor reconstruction of 0.6 miles of existing service roads. The Record of Decision was appealed by two parties. On May 25, 2007, upon review, Forest Supervisor Krueger withdrew her March 5, 2007 decision. Her decision to withdraw was based on an error identified in the FEIS by an appellant and her finding that further environmental analysis was needed in regard to some species of the wildlife. The SEIS will be limited in its scope and focus on correction of the soils disclosure in FEIS, and additional effects disclosure for some species of wildlife. Clarification of goshawk territories will also be addressed.

Responsible Official

Brian Ferebee, Acting Forest Supervisor, Uinta-Wasatch-Cache National Forest 8236 Bennett Federal Building, 125 South State Street, Salt Lake City, UT 84138.

Dated: January 16, 2008.
David R. Myers,
Deputy Forest Supervisor.

[FR Doc. 08-257 Filed 1-23-08; 8:45 am]

BILLING CODE 3410-11-M